OFFICE OF MANAGEMENT AND BUDGET

Guidelines for Ensuring and Maximizing the Quality, Objectivity, Utility, and Integrity of Information Disseminated by Federal Agencies

Correction

In notice document 02-59 beginning on page 369 in the issue of Thursday, January 3, 2002 make the following corrections:

1. On page 369, in the second column, under the heading SUPPLEMENTARY INFORMATION, fifth and sixth lines, “Office of Management (OMB)” should read “Office of Management and Budget (OMB)”.

2. On page 369, second column, first line from the bottom, a semicolon should be inserted, so that it reads, “disseminated by the agency and;”.

3. On page 369, third column, first full paragraph, eighth line, “September 20001” should read “September 2001”.

4. On page 370, second column, first paragraph, thirteenth line, should read “procedures required by these guidelines”.

5. On page 370, second column, first paragraph, the sentence beginning on line 27 should read as follows: “Under the OMB guidelines, agencies need only ensure that their own guidelines are consistent with these OMB guidelines, and then ensure that their administrative mechanisms satisfy the standards and procedural requirements in the new agency guidelines.”

6. On page 371, first column, first full paragraph, line 12 should read “an annual fiscal year report to OMB (to be”.

7. On page 371, third column, last line of the column, “objective” should read “objectivity”.

8. On page 372, first column, first full paragraph, thirteenth line, insert “a” between “in” and “particular”

9. On page 372, first column, first full paragraph, fifteenth line, “objective” should read “objectivity”.

10. On page 372, first column, first full paragraph, twenty-sixth line, “disclosed” should read “disclose”.

11. On page 372, first column, second paragraph, fourth line, “For example.” should read “For example,”.

12. On page 372, second column, second paragraph under the heading Is Journal Peer Review Always Sufficient?, in the sixth line, “or” should read “on”.

13. On page 372, second column, in line 18 of the indented quotation, insert “a” between “as” and “whole”.

14. On page 372, second column, fifth paragraph, third line, “significance” should read “significant”.

15. On page 373, second column, ninth line, “e.g.” should read “e.g.,”.

16. On page 373, third column, first paragraph, first line, “no”, should read “not”.

17. On page 373, third column, first paragraph, tenth line, “analytic” should read “analytical”.

18. On page 374, first column, last line, “date” should read “data”.

19. On page 374, second column, in the seventh line of the first paragraph, insert “be”, between “will” and “helpful”.

20. On page 374, second column, third paragraph, first line, “Commercial” should read “Comments”.

21. On page 375, second column, second paragraph, ninth line, “V.3.ii.C” should read “V.3.b.ii.C”.

22. On page 375, third column, third paragraph, “OMS's” should read “OMB's”.

23. On page 376, second column, paragraph ii, fifth line, “filed” should read “file”.

24. On page 376, second column, paragraph 4., first line, “The Agency's...” should read “The agency's...”.

25. On page 376, second column, paragraph 4., fifth line, “administative's” should read “administative”.

26. On page 376, second column, paragraph 4., ninth line, “October 1, 2001” should read “October 1, 2002”.

27. On page 376, in the third column, first line, the second “or” should read “a”.

28. On page 376, third column, paragraph 5., fourth line, remove the word “the”.

29. On page 376, third column, paragraph 5., sixth line, “July 1, 2001” should read “July 1, 2002”.

30. On page 376, third column, paragraph 2. under V. Definitions, sixth line, “reconsider” should read “consider”.

31. On page 376, third column, paragraph 2. under V. Definitions, seventh line, insert “the” after “from”.

32. On page 377, first column, paragraph 3., second line, “presentations” should read “presentation”.

33. On page 377, first column, paragraph a., sixteenth line, “specific” should read “scientific”.

34. On page 377, first column, in the second line from the bottom, “vigorous” should read “rigorous”.

35. On page 377, second column, first line, “response” should read “responsible”.

36. On page 377, second column, paragraph A., ninth line, “practicable” should read “practicably”.

37. On page 377, second column, paragraph ii., seventeenth line, “such” should read “which”.

38. On page 377, second line from the bottom of the second column, “equality” should read “quality”.

39. On page 378, first column, paragraph V.10., seventh line, “tolerate” should read “tolerated”.

[FR Doc. C2-59 Filed 2-4-02; 8:45 am]

BILLING CODE 1505-01-D

OFFICE OF THE UNITED STATES TRADE REPRESENTATIVE

Generalized System of Preferences (GSP); Consideration of Two Petitions To Alter AGOA Benefits for Canned Pears and Manganese Metal; Notice of Review Timetable and Public Hearings Regarding These Petitions

Correction

In notice document 02-1683 beginning on page 3528 in the issue of Thursday, January 24, 2002, make the following correction:

On page 3529, third column, in the 13th line, “March 2, 2002” should read “March 20, 2002”.

[FR Doc. C2-1683 Filed 2-4-02; 8:45 am]

BILLING CODE 1505-01-D